SMALL BUSINESS ADMINISTRATION

[Disaster Declaration #18016 and #18017; VERMONT Disaster Number VT-00046]

Presidential Declaration Amendment of a Major Disaster for the State of Vermont

AGENCY: Small Business Administration.

ACTION: Amendment 5.

SUMMARY: This is an amendment of the Presidential declaration of a major disaster for the State of Vermont (FEMA-4720-DR), dated 07/14/2023.

Incident: Severe Storms, Flooding, Landslides, and Mudslides.

Incident Period: 07/07/2023 through 07/17/2023.

DATES: Issued on 08/31/2023.

Physical Loan Application Deadline Date: 10/12/2023.

Economic Injury (EIDL) Loan Application Deadline Date: 04/15/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Vermont, dated 07/14/2023, is hereby amended to extend the deadline for filing applications for physical damages as a result of this disaster to 10/12/2023.

All other information in the original declaration remains unchanged.

(Catalog of Federal Domestic Assistance Number 59008)

Francisco Sánchez, Jr.,
Associate Administrator, Office of Disaster Recovery & Resilience.

[FR Doc. 2023-19448 Filed 9-7-23; 8:45 am]

BILLING CODE 8026-09-P